DEPARTMENT OF HOMELAND SECURITY

Office of the Secretary

[Docket No. DHS-2009-0019]

DHS Data Privacy and Integrity Advisory Committee

AGENCY: Privacy Office, DHS.

ACTION: Notice of Federal Advisory Committee meeting.

SUMMARY: The DHS Data Privacy and Integrity Advisory Committee will meet on May 14, 2009, in Washington, DC. The meeting will be open to the public.

DATES: The DHS Data Privacy and Integrity Advisory Committee will meet on Thursday, May 14, 2009, from 9 a.m. to 12 p.m. and from 2 p.m. to 4 p.m. Please note that the meeting may end early if the Committee has completed its business.

ADDRESSES: The meeting will be held in the Capitol Ballroom of the JW Marriott Hotel, 1331 Pennsylvania Avenue, NW., Washington, DC 20004 (Metro Center Station). Written materials, requests to make oral presentations, and requests to have a copy of your materials distributed to each member of the Committee prior to the meeting should be sent to Martha K. Landesberg, Executive Director, DHS Data Privacy and Integrity Advisory Committee, by May 7, 2009. Persons who wish to submit comments and who are not able to attend or speak at the meeting may submit comments at any time. All submissions must include the Docket Number (DHS-2009-0019) and may be submitted by any one of the following methods:

• Federal eRulemaking Portal: http://www.regulations.gov. Follow the instructions for submitting comments.

• E-mail: PrivacyCommittee@dhs.gov. Include the docket number (DHS-2009-0019) in the subject line of the message.

• Fax: (703) 483-2999.

• Mail: Martha K. Landesberg, Executive Director, Data Privacy and Integrity Advisory Committee, Department of Homeland Security, Washington, DC 20528.

Instructions: All submissions must include the words “Department of Homeland Security Data Privacy and Integrity Advisory Committee” and the Docket Number (DHS-2009-0019). Comments will be posted without alteration at http://www.regulations.gov, including any personal information provided.

Docket: For access to the docket to read background documents or comments received by the DHS Data Privacy and Integrity Advisory Committee, go to http://www.regulations.gov.

FOR FURTHER INFORMATION CONTACT: Martha K. Landesberg, Executive Director, DHS Data Privacy and Integrity Advisory Committee, Department of Homeland Security, Washington, DC 20528, by telephone (703) 235-0780, by fax (703) 235-0442, or by e-mail to PrivacyCommittee@dhs.gov.

SUPPLEMENTARY INFORMATION: Notice of this meeting is given under the Federal Advisory Committee Act, 5 U.S.C. App. (Pub. L. 92-463). During the meeting, the Chief Privacy Officer will provide the DHS Data Privacy and Integrity Advisory Committee an update on the activities of the DHS Privacy Office. The Committee will hear presentations on the US VISIT and e-Verify programs. The subcommittees will update the Committee on their current work. The Committee will also deliberate and vote on a draft white paper on DHS Information Sharing and Access Agreements. The agenda will be posted in advance of the meeting on the Committee's Web site at http://www.dhs.gov/privacy. Please note that the meeting may end early if all business is completed.

At the discretion of the Chair, members of the public may make brief (i.e., no more than three minutes) oral presentations from 3:30 p.m. to 4 p.m. If you would like to make an oral presentation at the meeting, please register in advance or sign up on the day of the meeting. If you wish to provide written materials to be distributed to each member of the Committee in advance of the meeting, please submit them, preferably in electronic form to facilitate distribution, to Martha K. Landesberg, Executive Director, DHS Data Privacy and Integrity Advisory Committee, by May 7, 2009.

Information on Services for Individuals With Disabilities

For information on services for individuals with disabilities or to request special assistance, contact Martha K. Landesberg, Executive Director, DHS Data Privacy and Integrity Advisory Committee, as soon as possible.

Dated: April 13, 2009.
Mary Ellen Callahan,
Chief Privacy Officer, Department of Homeland Security.

[FR Doc. E9-8874 Filed 4-16-09; 8:45 am]

BILLING CODE 9110-9L-P